DEPARTMENT OF DEFENSE

Office of the Secretary

[Docket ID DoD-2022-HA-0072]

Submission for OMB Review; Comment Request

AGENCY: Office of the Assistant Secretary of Defense for Health Affairs (OASD(HA)), Department of Defense (DoD).

ACTION: 30-Day information collection notice.

SUMMARY: The DoD has submitted to OMB for clearance the following proposal for collection of information under the provisions of the Paperwork Reduction Act.

DATES: Consideration will be given to all comments received by October 11, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Centralized Credentials and Quality Assurance System; OMB Control Number 0720-AAGX.

Type of Request: New.

Number of Respondents: 62,500.

Responses per Respondent: 3.

Annual Responses: 187,500.

Average Burden per Response: 4 hours.

Annual Burden Hours: 750,000.

Needs and Uses: The information entered in the Centralized Credentials and Quality Assurance System (CCQAS) E-application is necessary to validate that a Military Health System (MHS) health care provider is educated and trained to be credentialed and privileged to provide health care within a Military Treatment Facility or military installation. Respondents are MHS health care providers and clinical quality managers that update records in CCQAS. The credentialing and privileging information collection begins with the online registration process at https://ccqas.csd.disa.mil. Once the respondent has completed registration and gained access to CCQAS, a new Credentials record is generated. A single Credentials record is maintained in CCQAS for each health care provider over the entirety of his or her service to the MHS and is updated over time to reflect the provider's qualifications for providing care.

Affected Public: Individuals or households.

Frequency: On occasion.

Respondent's Obligation: Voluntary.

OMB Desk Officer: Mr. Matthew Eliseo.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 2, 2022.
Aaron T. Siegel,
Alternate OSD Federal Register Liaison Officer, Department of Defense.

[FR Doc. 2022-19421 Filed 9-7-22; 8:45 am]

BILLING CODE 5001-06-P